FEDERAL COMMUNICATIONS COMMISSION

47 CFR Parts 15 and 27

[ET Docket No. 14-165; FCC 15-99]

Unlicensed Use of TV Band and 600 MHz Band Spectrum

AGENCY: Federal Communications Commission.

ACTION: Final rule; announcement of effective date.

SUMMARY: In this document, the Commission announces that the Office of Management and Budget (OMB) has approved, for a period of three years, the information collection associated with the rule changes for white space devices and wireless microphones in the Commission's August 11, 2015 Part 15 Report and Order, FCC 15-99. This document is consistent with the Report and Order which stated that the Commission would publish a document in the Federal Register announcing OMB approval and the effective date of the requirements.

DATES: The amendments to 47 CFR 15.713(b)(2)(iv) through (v), (j)(4), (j)(10) and (j)(11), 15.715(n) through (q) and 27.1320 published at 80 FR 73043, November 23, 2015, are effective on June 15, 2016.

FOR FURTHER INFORMATION CONTACT: Cathy Williams on (202) 418-2918 or via email to: cathy.williams@fcc.gov.

SUPPLEMENTARY INFORMATION: This document announces that, on May 11, 2016, OMB approved, for a period of three years, the information collection requirements contained in 47 CFR 15.713(b)(2)(iv) through (v), (j)(4), (j)(10) and (j)(11), 15.715(n) through (q) and 27.1320. The Commission publishes this document to announce the effective date of these rule sections. See In the Matter of Amendment of Part 15 of the Commission's Rules for Unlicensed Operations in the Television Bands, Repurposed 600 MHz Band, 600 MHz Guard Bands and Duplex Gap, and Channel 37, and Amendment of Part 74 of the Commission's Rules for Low Power Auxiliary Stations in the Repurposed 600 MHz Band and 600 MHz Duplex Gap and Expanding the Economic and Innovation Opportunities of Spectrum Through Incentive Auctions, ET Docket No. 14-165 and GN Docket No. 12-268, FCC 15-99, 80 FR 73043, November 23, 2015.

Synopsis

As required by the Paperwork Reduction Act of 1995 (44 U.S.C. 3507), the FCC is notifying the public that it received final OMB approval on May 11, 2016, for the information collection requirements contained in the modifications to the Commission's rules in 47 CFR 15.713(b)(2)(iv) through (v), (j)(4), (j)(10) and (j)(11), 15.715(n) through (q) and 27.1320. Under 5 CFR 1320.5(b), an agency may not conduct or sponsor a collection of information unless it displays a current, valid OMB Control Number.

No person shall be subject to any penalty for failing to comply with a collection of information subject to the Paperwork Reduction Act that does not display a current, valid OMB Control Number.

The OMB Control Number is 3060-1155. The foregoing notice is required by the Paperwork Reduction Act of 1995, Public Law 104-13, October 1, 1995, and 44 U.S.C. 3507.

The total annual reporting burdens and costs for the respondents are as follows:

OMB Approval Date: May 11, 2016.

OMB Expiration Date: May 31, 2019.

Title: Sections 15.713, 15.714, 15.715, 15.717 and 27.1320, TV White Space Broadcast Bands.

Form Number: Not applicable.

Respondents: Business or other for-profit entities.

Number of Respondents and Responses: 2,010 respondents; 4,000 responses.

Estimated Time per Response: 2 hours.

Frequency of Response: On-occasion reporting requirements; recordkeeping requirements; and third party disclosure.

Obligation to Respond: Required to obtain or retain benefits. The statutory authority for this information collection is contained in 47 U.S.C. Sections 154(i), 302, 303(c), 303(f), and 307.

Total Annual Burden: 8,000 hours.

Total Annual Cost: $200,000.

Nature and Extent of Confidentiality: The Commission is not requesting respondents to submit confidential information to the Commission. Respondents may request confidential treatment of such information under 47 CFR 0.459 of the Commission's rules.

Privacy Impact Assessment: No impact(s).

Needs and Uses: On August 11, 2015, the Federal Communications Commission adopted a Report and Order (R&O), ET Docket No. 14-165 and GN Docket No. 12-268, FCC 15-99. This R&O made certain changes to the rules for unlicensed device operations in the frequency bands that are now and will continue to be allocated and assigned to broadcast television services (TV bands), including fixed and personal/portable white space devices and unlicensed wireless microphones. It also adopted rules for fixed and personal/portable white space devices and wireless microphones in the 600 MHz guard bands, including the duplex gap, and the 600 MHz band that will be repurposed for new wireless services, and for fixed and personal/portable white space devices on channel 37.

Federal Communications Commission.
Marlene H. Dortch,
Secretary. Office of the Secretary.

[FR Doc. 2016-14178 Filed 6-14-16; 8:45 am]

BILLING CODE 6712-01-P